DEPARTMENT OF HOMELAND SECURITY

Bureau of Citizenship and Immigration Services

[CIS No. 2284-03]

RIN 1650-AB06

Extension of the Designation of Somalia Under Temporary Protected Status Program

AGENCY: Bureau of Citizenship and Immigration Services, Homeland Security.

ACTION: Notice.

SUMMARY: The designation of Somalia under the Temporary Protected Status (TPS) Program will expire on September 17, 2003. This notice extends the Secretary of Homeland Security's designation of Somalia for 12 months until September 17, 2004, and sets forth procedures necessary for nationals of Somalia (or aliens having no nationality who last habitually resided in Somalia) with TPS to re-register and to apply for an extension of their employment authorization documentation for the additional 12-month period. Re-registration is limited to persons who registered under the initial designation (which was announced on September 16, 1991) and also timely re-registered under each subsequent extension of the designation, or who registered under the re-designation (which was announced on September 4, 2001) and also timely re-registered under the extension of the re-designation. Certain nationals of Somalia (or aliens having no nationality who last habitually resided in Somalia) who previously have not applied for TPS may be eligible to apply under the late initial registration provisions.

EFFECTIVE DATES: The extension of Somalia's TPS designation is effective September 17, 2003, and will remain in effect until September 17, 2004. The 60-day re-registration period begins July 21, 2003 and will remain in effect until September 19, 2003.

FOR FURTHER INFORMATION CONTACT: Jonathan Mills, Residence and Status Services, Office of Programs and Regulations, Bureau of Citizenship and Immigration Services, Department of Homeland Security, 425 “I” Street, NW., Room 3040, Washington, DC 20536, telephone (202) 514-4754.

SUPPLEMENTARY INFORMATION:

What Authority Does the Secretary of the Department of Homeland Security Have To Extend the Designation of Somalia Under the TPS Program?

On March 1, 2003, the functions of the Immigration and Naturalization Service (Service) transferred from the Department of Justice to the Department of Homeland Security (DHS) pursuant to the Homeland Security Act of 2002, Public Law 107-296. The responsibilities held by the Service for administering the TPS program were transferred to the Bureau of Citizenship and Immigration Services (BCIS).

Under section 244 of the Immigration and Nationality Act (the Act), 8 U.S.C. 1254a, the Secretary of DHS, after consultation with appropriate agencies of the Government, is authorized to designate a foreign state or (part thereof) for TPS. The Secretary of DHS may then grant TPS to eligible nationals of that foreign state (or aliens having no nationality who last habitually resided in that state).

Section 244(b)(3)(A) of the Act requires the Secretary of DHS to review, at least 60 days before the end of the TPS designation or any extension thereof, the conditions in a foreign state designated under the TPS program to determine whether the conditions for a TPS designation continue to be met and, if so, the length of an extension of TPS. 8 U.S.C. 1254a(b)(3)(A). If the Secretary of DHS determines that the foreign state no longer meets the conditions for TPS designation, he shall terminate the designation, as provided in section 244(b)(3)(B) of the Act. 8 U.S.C. 1254a(b)(3)(B). Finally, if the Secretary of DHS does not determine that a foreign state (or part thereof) no longer meets the conditions for designation at least 60 days before the designation or extension is due to expire, section 244(b)(3)(C) of the Act provides for an automatic extension of TPS for an additional period of 6 months (or, in the discretion of the Secretary of DHS, a period of 12 or 18 months). 8 U.S.C. 1254a(b)(3)(C).

Why Did the Secretary of DHS Decide To Extend the TPS Designation for Somalia?

On September 16, 1991, the Attorney General published a notice in the Federal Register designating Somalia under the TPS program based upon ongoing armed conflict occurring within the country. 56 FR 46804. The Attorney General extended this TPS designation annually and re-designated Somalia by publishing a notice on September 4, 2001, determining in each instance that the conditions warranting such designation continued to be met. 67 FR 48950.

Since the date of the last extension, the Departments of Homeland Security and State have continued to review conditions in Somalia. It is determined that a 12-month extension is warranted due to ongoing armed conflict within Somalia that would pose a serious threat to the personal safety of returning nationals of Somalia (or aliens having no nationality who last habitually resided in Somalia). 8 U.S.C. 1254a(b)(1)(A).

The Department of State has observed that, more than seven years after the withdrawal of the United Nations Operation in Somalia (UNOSOM) and twelve years after the fall of Mohammed Said Barre's regime, Somalia still lacks a central authority. DOS Recommendation (June 4, 2003). In July 2000, the president of Djibouti convened a conference that adopted a charter for a three-year Transnational National Government (TNG) for Somalia and selected a 245-member Transitional Assembly. Id. In October 2002, virtually all warring factions, the TNG, and civil society held peace talks and agreed to a ceasefire. Id.

Despite these developments, real change on the ground has not yet occurred. BCIS Resource Information Center (RIC) Report (May 30, 2003). Many TNG officials have been threatened or killed; an atmosphere of lawlessness continues. DOS Recommendation. De facto local governments in the northern part of the country that pre-date the TNG and several local militias have strongly contested the legitimacy of the TNG. Id. Fighting has continued throughout the country. Id. Hundreds have been killed and injured in clashes between armed factions. RIC Report. Almost the entire country, except the self-declared Republic of Somaliland, has witnessed fighting and serious insecurity. Id. Major regions of the country are under the control of bandits and the population is beyond the reach of the rule of law. DOS Recommendation.

In addition, the RIC reports that the humanitarian situation in Somalia remains dire. The ongoing conflict in much of the country has prevented humanitarian relief from reaching some areas where the need is greatest. RIC Report. Some 500,000 people are currently threatened by severe food shortages, 72 percent of the population has no access to health care, and 77 percent lack access to clean, potable water. Id. An estimated 400,000 people are displaced within the country. Id. As of the end of 2001, approximately 300,000 Somali refugees lived in about two dozen countries. Id. The current situations in southern and northeast Somalia continue to pose a significant risk of harm for Somalis who would be returning from the United States. Id.

Somalia's institutions are not able to adequately address the demands of a ravaged population, nor would they be able to document or accommodate a large volume of returns. DOS Recommendation. Somalis within the country rely on family connections and collective security for survival. Id. New arrivals, outside this network, would be extremely vulnerable. Id.

Based upon this review, the Secretary of DHS, after consultation with appropriate Government agencies, finds that the conditions that prompted designation of Somalia under the TPS program continue to be met. 8 U.S.C. 1254a(b)(3)(A). There is an ongoing armed conflict within Somalia and, due to such conflict, requiring the return of aliens who are nationals of Somalia (or aliens having no nationality who last habitually resided in Somalia) would pose a serious threat to their personal safety. 8 U.S.C. 1254a(b)(1)(A). On the basis of these findings, the Secretary of DHS concludes that the TPS designation for Somalia should be extended for an additional 12-month period. 8 U.S.C. 1254a(b)(3)(C).

If I Currently Have TPS Through the Somalia TPS Program, Do I Still Re-register for TPS?

Yes. If you already have received TPS benefits through the Somalia TPS program, your benefits will expire on September 17, 2003. Accordingly, individual TPS beneficiaries must comply with the re-registration requirements described below in order to maintain their TPS benefits through September 17, 2004. TPS benefits include temporary protection against removal from the United States, as well as employment authorization, during the TPS designation period and any extension thereof. 8 U.S.C. 1254a(a)(1).

If I Am Currently Registered for TPS, How Do I Re-register for an Extension?

All persons previously granted TPS under the Somalia program who wish to maintain such status must apply for an extension by filing (1) a Form I-821, Application for Temporary Protected Status, without the filing fee; (2) a Form I-765, Application for Employment Authorization; and (3) two identification photographs (1½ inches × 1½ inches). See the chart below to determine whether you must submit the one hundred and twenty dollar ($120) filing fee with Form I-765. Applicants for an extension of TPS benefits do not need to be re-fingerprinted and thus need not pay the $50 fingerprint fee. Children beneficiaries of TPS who have reached the age of fourteen (14) but were not previously fingerprinted must pay the fifty dollar ($50) fingerprint fee with the application for extension.

Applications submitted without the required fee and/or photos will be returned to the applicant. Submit the completed forms and applicable fee, if any, to the BCIS District Office having jurisdiction over your place of residence during the 60-day re-registration period that begins July 21, 2003 and ends September 19, 2003.

If | Then
You are applying for employment authorization until September 17, 2004 | You must complete and file the Form I-765, Application for Employment Authorization, with the $120 fee.
You already have employment authorization or do not require employment authorization | You must complete and file Form I-765 with no fee.¹
You are applying for employment authorization and are requesting a fee waiver | You must complete and file: (1) Form I-765 and (2) a fee waiver request and affidavit (and any other information) in accordance with 8 CFR 244.20.
¹ An applicant who does not seek employment authorization documentation does not need to submit the $120 fee, but must still complete and submit Form I-765 for data gathering purposes.

If My Application for TPS Is Still Pending, How Can I Renew My Employment Authorization Document?

If your application for TPS is still pending and you wish to receive or renew your employment authorization document, you must file with the BCIS District Office having jurisdiction over your place of residence (1) a Form I-821 without the filing fee, (2) a Form I-765, and (3) two identification photographs (1½ inches x 1½ inches). See the chart above to determine whether you must submit the one hundred and twenty ($120) filing fee with Form I-765. An application submitted without the required filing fee or photos will be returned to the applicant.

How Does An Application for TPS Affect My Application for Asylum or Other Immigration Benefits?

An application for TPS does not affect an application for asylum or any other immigration benefit, and vise versa. Denial of an application for asylum or any other immigration benefit does not affect an applicant's TPS eligibility, although the grounds for denying one form of relief may also be grounds for denying TPS. For example, a person who has been convicted of a particularly serious crime is not eligible for asylum or TPS. 8 U.S.C. 1158(b)(2)(A)(ii); 8 U.S.C. 1254a(c)(2)(B)(ii).

Does This Extension Allow Nationals of Somalia (or Aliens Having no Nationality Who Last Habitually Resided in Somalia) Who Entered the United States After September 4, 2001, To File for TPS?

No. This is a notice of an extension of TPS, not a notice of re-designation of Somalia under the TPS program. An extension of TPS does not change the required dates of continuous residence and continuous physical presence in the United States. This extension does not expand TPS availability to those who are not already TPS class members. To be eligible for benefits under this extension, nationals of Somalia (or aliens having no nationality who last habitually resided in Somalia) must have resided continuously in the United States since September 4, 2001, and have been continuously physically present in the United States since September 4, 2001.

What Is Late Initial Registration?

Some persons may be eligible for late initial registration under 8 U.S.C. 1254a(c)(1)(A) and 8 CFR 244.2(f)(2). To apply for late initial registration an applicant must:

(1) Be a national of Somalia (or alien who has no nationality and who last habitually resided in Somalia);

(2) Have been continuously physically present in the United States since September 4, 2001;

(3) Have continuously resided in the United States since September 4, 2001; and

(4) Be both admissible as an immigrant, except as provided under section 244(c)(2)(A) of the Act, and not ineligible under section 244(c)(2)(B) of the Act.

Additionally, the applicant must be able to demonstrate that during the registration period from September 4, 2001, through September 17, 2002, he or she:

(1) Was a nonimmigrant or had been granted voluntary departure status or any relief from removal;

(2) Had an application for change of status, adjustment of status, asylum, voluntary departure, or any relief from removal or change of status pending or subject to further review or appeal;

(3) Was a parolee or had a pending request for reparole; or

(4) Was the spouse or child of an alien currently eligible to be a TPS registrant.

An applicant for late initial registration must file an application for late registration no later than 60 days after the expiration or termination of the conditions described above. 8 CFR 244.2(g).

What Happens When This Extension of TPS Expires on September 17, 2004?

At least 60 days before this extension of TPS expires on September 17, 2004, the Secretary of DHS will review conditions in Somalia and determine whether the conditions for designation under the TPS program continue to be met at that time, or whether the TPS designation should be terminated. Notice of that determination, including the basis for the determination, will be published in the Federal Register.

If the TPS designation is extended at that time, an alien who has received TPS benefits must re-register under the extension in order to maintain TPS benefits. If, however, the Secretary of DHS terminates the TPS designation, TPS beneficiaries will maintain the immigration status they had before TPS (unless that status had since expired or been terminated) or any other status they may have acquired while registered for TPS. Accordingly, if an alien had no lawful immigration status prior to receiving TPS and did not obtain any status during the TPS period, he or she will revert to that unlawful status upon termination of the TPS designation.

Notice of Extension of Designation of Somalia Under the TPS Program

By the authority vested in me as Secretary of DHS under sections 244(b)(1)(B), (b)(3)(A), and (b)(3)(C) of the Act, I have consulted with the appropriate government agencies and determine that the conditions that prompted designation of Somalia for TPS continue to be met. 8 U.S.C. 1254a(b)(3)(A). Accordingly, I order as follows:

(1) The designation of Somalia under section 244(b) of the Act is extended for an additional 12-month period from September 17, 2003, to September 17, 2004. 8 U.S.C. 1254a(b)(3)(C).

(2) There are approximately 360 nationals of Somalia (or aliens having no nationality who last habitually resided in Somalia) who have been granted TPS and who are eligible for re-registration.

(3) To maintain TPS, a national of Somalia (or an alien having no nationality who last habitually resided in Somalia) who received TPS during the initial designation period must re-register for TPS during the 60-day re-registration period from July 21, 2003 until September 19, 2003.

(4) To re-register, the applicant must file: (1) Form I-821, Application for Temporary Protected Status; (2) Form I-765, Application for Employment Authorization; and (3) two identification photographs (1½ inches by 1½ inches). Applications submitted without the required fee and/or photos will be returned to the applicant. There is no fee for filing the Form I-821 for re-registration. If the applicant requests employment authorization, he or she must submit one hundred and twenty dollars ($120) or a properly documented fee waiver request, pursuant to 8 CFR 244.20, with the Form I-765. An applicant who does not request employment authorization must nonetheless file Form I-765 along with Form I-821, but is not required to submit the fee. The fifty-dollar ($50) fingerprint fee is required only for children beneficiaries of TPS who have reached the age of 14 but were not previously fingerprinted. Failure to re-register without good cause will result in the withdrawal of TPS. 8 CFR 244.17(c). Some persons who had not previously applied for TPS may be eligible for late initial registration under 8 CFR 244.2.

(5) At least 60 days before this extension terminates on September 17, 2004, the Secretary will review the designation of Somalia under the TPS program and determine whether the conditions for designation continue to be met. 8 U.S.C. 1254a(b)(3)(A). Notice of that determination, including the basis for the determination, will be published in the Federal Register. 8 U.S.C. 1254a(b)(3)(A).

(6) Information concerning the extension of designation of Somalia under the TPS program will be available at local BCIS offices upon publication of this notice and on the BCIS Web site at http://www.bcis.gov.

Dated: July 16, 2003.
Tom Ridge,
Secretary of Homeland Security.

[FR Doc. 03-18566 Filed 7-17-03; 12:39 pm]

BILLING CODE 4410-10-Pse